DEPARTMENT OF HEALTH AND HUMAN SERVICES

[Document Identifier: OS-0990-New; 60-day Notice]

Agency Information Collection Request; 60-Day Public Comment Request

AGENCY: Office of the Secretary, HHS.

In compliance with the requirement of section 3506(c)(2)(A) of the Paperwork Reduction Act (PRA) of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Descriptive information of solutions provided to the Federal government in response to Challenge and Competition solicitations posted on Challenge.gov.— OMB No. 0990-New-Immediate Office of the Secretary.

Abstract: This request is to seek generic clearance for the collection of routine information requested of responders to solicitations the Federal government makes during the issuance of challenges and competitions posted on the General Service Administration (GSA)'s Challenge.gov Web site. Since passage of the America COMPETES Act of 2011, challenge competitions are increasingly being used by Federal agencies to solve complex problems and obtain innovative solutions. In this role, the Federal government places a description of a problem and parameters of the solution on the Challenge.gov Web site. The solutions are evaluated by the submitting agency and typically prizes (monetary and non-monetary) are awarded to the winning entries.

This clearance applies to challenges posted on Challenge.gov which uses a common platform for the solicitation of challenges from the public. Each agency designs the criteria for its solicitations based on the goals of the challenge and the specific needs of the agency. There is no standard submission format for solution providers to follow.

We anticipate that approximately 100 challenges would be issued each year by HHS, with an average of 15 submissions to each challenge solicitation. It is expected that other federal agencies will issue a similar number of challenges. There is no set schedule for the issuance of challenges; they are developed and issued on an “as needs” basis in response to issues the federal agency wishes to solve. The respondents to the challenges, who are participating voluntarily, are unlikely to reply to more than one or several of the challenges.

Although in recent memoranda the GSA and Office of Management and Budget (OMB) described circumstances whereby OMB approval of a PRA request is not needed, program officials at HHS have identified several sets of information that will typically need to be requested of solution providers to enable the solutions to be adequately evaluated by the federal agency issuing the challenge. These requests for additional information have been suggested to require a PRA review as they represent structured data requests.

There are three types of additional data that will be routinely requested by the federal agencies. These include the following:

Title of the submission. Due to the nature of the submission and evaluation processes, it is important that a title be requested and submitted for each submission in order to ensure the solution is correctly identified with its provider.

Identification of data resources. In many cases, the solution to a problem will require the solution provider to use data resources. Often, the nature of the data sets will be derived from Federal data resources, such as data.gov. Evaluations of solutions will often depend on the understanding of the selection of the data resource(s) used in the solution.

Description of methodology. For effective judging and evaluation, a description of the development methods for the solution to the challenge will be requested. For instance, a prize may be awarded to the solution of a challenge to develop an algorithm that enables reliable prediction of a certain event. A responder could submit the correct algorithm, but without the methodology, the evaluation process could not be adequately performed.

Estimated Annualized Burden Table
Forms | Type of respondent | No. of respondents | No. of responses per respondent | Average burden (in hours) per response | Total burden hours
Challenge Template A | Individuals or Households | 500 | 1 | 10/60 | 83.3
Challenge Template A | Organizations | 500 | 1 | 10/60 | 83.3
Challenge Template A | Businesses | 500 | 1 | 10/60 | 83.3
Challenge Template A | State, territory, tribal or local governments | 30 | 1 | 10/60 | 5
Challenge Template A | Federal government | 30 | 1 | 10/60 | 5
Total |  | 1,560 |  |  | 255.9

Mary Forbes,
Paperwork Reduction Act Clearance Officer, Office of the Secretary.

[FR Doc. 2011-19323 Filed 7-29-11; 8:45 am]

BILLING CODE 4150-03-P